Title 3—

The President

Memorandum of September 2, 2020

Providing an Order of Succession Within the General Services Administration

Memorandum for the Administrator of General Services

By the authority vested in me as President by the Constitution and the laws of the United States of America, including the Federal Vacancies Reform Act of 1998, as amended, 5 U.S.C. 3345 et seq. (the “Act”), it is hereby ordered that:

Section 1. Order of Succession. Subject to the provisions of section 2 of this memorandum and to the limitations set forth in the Act, the following officials of the General Services Administration, in the order listed, shall act as and perform the functions and duties of the office of the Administrator of General Services (Administrator), during any period in which both the Administrator and Deputy Administrator have died, resigned, or otherwise become unable to perform the functions and duties of the office of Administrator:

(a) Chief of Staff;

(b) General Counsel;

(c) Commissioner, Public Buildings Service;

(d) Commissioner, Federal Acquisition Service;

(e) Deputy Commissioner, Public Buildings Service;

(f) Deputy Commissioner, Federal Acquisition Service;

(g) Chief Financial Officer;

(h) Regional Administrator, Greater Southwest Region (Region 7); and

(i) Regional Administrator, Great Lakes Region (Region 5).

Sec. 2. Exceptions. (a) No individual who is serving in an office listed in section 1 of this memorandum in an acting capacity, by virtue of so serving, shall act as Administrator pursuant to this memorandum.

(b) No individual listed in section 1 of this memorandum shall act as Administrator unless that individual is otherwise eligible to so serve under the Act.

(c) Notwithstanding the provisions of this memorandum, the President retains discretion, to the extent permitted by law, to depart from this memorandum in designating an acting Administrator.

Sec. 3. Revocation. The Presidential Memorandum of September 20, 2013 (Designation of Officers of the General Services Administration to Act as Administrator of General Services), is hereby revoked.

Sec. 4. General Provision. This memorandum is not intended to, and does not, create any right or benefit, substantive or procedural, enforceable at law or in equity by any party against the United States, its departments, agencies, or entities, its officers, employees, or agents, or any other person.

Sec. 5. Publication. You are hereby authorized and directed to publish this memorandum in the Federal Register.

THE WHITE HOUSE,

Washington, September 2, 2020

[FR Doc. 2020-19963

Filed 9-4-20; 11:15 am]

Billing code 6820-34-P